NUCLEAR REGULATORY COMMISSION

[Docket No. 11006611; NRC-2024-0139]

Perma-Fix Northwest Richland, Inc.; Export License Application

AGENCY: Nuclear Regulatory Commission.

ACTION: Opportunity to provide comments, request a hearing, and petition for leave to intervene.

SUMMARY: The U.S. Nuclear Regulatory Commission (NRC) received and is considering issuing an export license (XW033), requested by Perma-Fix Northwest Richland, Inc (PFNW) by application dated June 18, 2024. The application seeks the NRC's approval to return residual radioactive waste to the country of origin, Mexico. The NRC is providing notice of the opportunity to comment, request a hearing, and petition to intervene on PFNW's application.

DATES: Submit comments by September 16, 2024. A request for a hearing or petition for leave to intervene must be filed by September 16, 2024.

ADDRESSES: You may submit comments by any of the following methods; however, the NRC encourages electronic comment submission through the Federal rulemaking website:

• Federal rulemaking website: Go to https://www.regulations.gov and search for Docket ID NRC-2024-0139. Address questions about Docket IDs in Regulations.gov to Stacy Schumann; telephone: 301-415-0624; email: Stacy.Schumann@nrc.gov. For technical questions contact the individual listed in the FOR FURTHER INFORMATION CONTACT section of this document.

• Email comments to: Hearing.Docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Andrea Jones, Office of International Programs, U.S. Nuclear Regulatory Commission, Washington, DC 20555-0001; telephone: 404-997-4443; email: Andrea.Jones2@nrc.gov.

SUPPLEMENTARY INFORMATION:

I. Obtaining Information and Submitting Comments

A. Obtaining Information

Please refer to NRC-2024-0139 or Docket No. 11006611 when contacting the NRC about the availability of information for this action. You may obtain publicly available information related to this action by the following methods:

• Federal Rulemaking Website: Go to https://www.regulations.gov and search for Docket ID NRC-2024-0139.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The export license application is available in ADAMS under Accession No. ML24205A240.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include NRC-2024-0139 or Docket No. 11006611 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On June 18, 2024, PFNW submitted an application to the NRC for a license to export treated radioactive waste of Mexican origin. The source of the waste is the Comisión Federal de Electricidad (CFE) Laguna Verde Nuclear Power Plant (CFE LVNPP), located in Veracruz, Mexico. PFNW intends to receive shipment of incoming waste consisting of liquid, solids, contaminated personal protective equipment, paper, plastic, glass, and combustible waste generated by the research projects at the power plant. PFNW will treat the waste by thermal processing, stabilization, and solidification. Residual ash, residual metal, and noncombustible material would then be exported back to Mexico for disposal. Resultant contaminants to be exported will include cobalt 60 (Co-60), cesium-137 (Cs-137), tritium (H-3), manganese-54 (Mn-54), zinc-65 (Zn-65), cobalt-58 (Co-58), carbon-14 (C-14), iron-55 (Fe-55), nickel-63 (Ni-63), strontium-90 (Sr-90), techneticum-99 (Tc-99), plutonium-241 (Pu-241), and americium-241 (Am 241) in the form of residual ash and residual metal or non-combustible material, not to exceed 0.119 terabecquerels (TBq). PFNW requests an expiration date of December 1, 2030.

In accordance with paragraph 110.70(b) of title 10 of the Code of Federal Regulations (10 CFR), the NRC is providing notice of the receipt of the application; providing the opportunity to submit written comments concerning the application; and providing the opportunity to request a hearing or petition for leave to intervene, for a period of 30 days after publication of this notice in the Federal Register.

A hearing request or petition for leave to intervene must include the information specified in 10 CFR 110.82(b). Any request for hearing or petition for leave to intervene shall be served by the requestor or petitioner in accordance with 10 CFR 110.89(a), either by delivery, by mail, or filed with the NRC electronically in accordance with the NRC's E-Filing rule (72 FR 49139; August 28, 2007, as amended at 77 FR 46562; August 3, 2012). Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

The information concerning this application for an export license is as follows.

NRC Export License Application
Application Information
Name of Applicant | Perma-Fix Northwest Richland, Inc.
Date of Application | June 18, 2024.
Date Received | July 24, 2024.
Application No | XW033.
Docket No | 11006611.
ADAMS Accession No | ML24205A240.
Description of Material
Material Type | Low-level radioactive waste contaminated with Co-60, Cs-137, H-3, Mn-54, Zn-65, Co-58, C-14, Fe-55, Ni-63, Sr-90, Tc-99, Pu-241, and Am 241 in the form of residual ash and residual metal or non-combustible material. The incoming material will include liquid, solids, contaminated personal protective equipment, paper, plastic, glass, and combustible waste generated by the Laguna Verde Nuclear Power Plant, located in Veracruz, Mexico.
Total Quantity | Not to exceed 0.119 TBq.
End Use | Storage and ultimate disposal of low-level radioactive waste.
Country of Destination | Mexico.

Dated: August 9, 2024.
For the Nuclear Regulatory Commission.
David L. Skeen,
Director, Office of International Programs.

[FR Doc. 2024-18209 Filed 8-14-24; 8:45 am]

BILLING CODE 7590-01-P